DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Peninsula Corridor Joint Powers Board-Caltrain

[Waiver Petition Docket Number FRA-2009-0124]

The Peninsula Corridor Joint Powers Board (JPB) seeks a waiver of compliance from certain provisions of Title 49 CFR Part 238 Passenger Equipment Safety Standards. Specifically, JPB is considering purchasing non-FRA compliant high-efficiency electric multiple unit (EMU) vehicles, constructed to European safety standards for its Caltrain commuter rail service between San Francisco, CA, and Gilroy, CA. JPB seeks relief from the requirements of § 238.204 Static End Strength; § 238.205 Anti-Climbing Mechanism; § 238.207 Link Between Coupling Mechanism; § 238.211 Collision Posts; and § 238.213 Corner Posts.

JPB, which owns and operates the Caltrain commuter rail service between San Francisco, CA, and Gilroy, CA [MilePost (MP) 51.9], is currently considering a program that increases system capacity by removing constraints within the system. This program, referred to as “Caltrain 2025,” will allow Caltrain to expand service and reduce costs while providing a measurably safer transportation network. Along with electrification of mainline tracks and implementation of an enhanced positive train control system, a key component of this program involves the operation of some non-FRA compliant high-efficiency EMU vehicles constructed to European safety standards that feature Crash Energy Management capabilities. Also, Caltrain will temporally separate freight operations from passenger operations between San Francisco, CA, and Santa Clara (MP 44.6), by limiting freight movements to the exclusive freight period hours of midnight-5 a.m. Only from MP 44.6-MP 51.9 will freight service commingle with Caltrain commuter equipment during revenue service.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0124) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on January 19, 2010.
Grady C. Cothen, Jr.,
Deputy Associate Administrator for Safety Standards and Program Development.

[FR Doc. 2010-1226 Filed 1-22-10; 8:45 am]

BILLING CODE 4910-06-P